DEPARTMENT OF ENERGY

Federal Energy Regulatory Commission

[Docket Nos. CP05-130-000, CP05-132-000, CP05 395-000, CP06-26-000 and CP05-131-000 (Not consolidated)]

Dominion Cove Point LNG, L.P. and Dominion Transmission, Inc.; Supplemental Notice of Procedural Conference, Conference Agenda, and Further Order on Late Intervention

February 13, 2006.

Take notice that as previously announced on February 2, 2006, the Federal Energy Regulatory Commission (Commission) will hold a procedural conference in the above-captioned proceedings on February 22, 2006. As stated in the February 2, 2006 Notice, the purpose of the conference is to allow the parties and Commission staff to discuss: (1) The pleadings filed in these proceedings regarding the quality of the natural gas delivered, and proposed to be delivered, to Washington Gas Light Company (WGL) from the liquefied natural gas (LNG) import terminal owned and operated by Dominion Cove Point LNG, LP (Cove Point), and the potential effects of the proposed expansion and modification of Cove Point's LNG import terminal on certain facilities owned by WGL, and (2) the procedural options for the continued timely processing of Cove Point's requests for expansion and modification of its LNG import facility. By this supplemental notice, the Commission provides further information and an agenda for the conference.

Conference Information

Date: February 22, 2006.

Time: 10 a.m. (EST).

Location: Federal Energy Regulatory Commission, 888 First Street, NE., Room 3M-4, Washington, DC 20426.

Procedural Conference Agenda

Only the parties identified below shall be allowed to make presentations at the conference. Those presentations should be limited to the issues raised in the pleadings regarding the quality of the natural gas delivered, and proposed to be delivered, to WGL from the LNG import terminal owned and operated by Cove Point, and the potential effects of the proposed expansion and modifications of Cove Point's LNG import terminal on certain facilities owned by WGL, and the procedural options for the continued timely processing of Cove Point's requests for expansion and modification of its LNG import facility. Parties who intend to include power point presentations or other visual aids should advise the contact person(s) identified below in advance.

Following opening remarks from Commission staff at 10 a.m., the following parties will be permitted to make presentations in the order listed herein, limited to 45 minutes each, with Commission staff questions to follow each presentation: Washington Gas Light Company, Norton McMurray Manufacturing Company, Dominion Cove Point LNG, LP, LTD-1 Shippers.

Following the presentations and questions, Commission staff will close the conference, as appropriate in light of the presentations. Transcripts of the conference will be immediately available from Ace Reporting Company (202-347-3700 or 1-800-336-6646) for a fee. They will be available to the public on the Commission's eLibrary system seven calendar days after FERC receives the transcript. For information about this proceeding, interested persons may go to the Commission's Web site, http://www.ferc.gov, and search under the docket number for this proceeding, Docket No. CP05-130-000, et al.

Norton McMurray Manufacturing Company (Norton McMurray) and the City of Richmond, Virginia (City of Richmond) filed motions to intervene out of time in these proceedings on February 8, and February 10, 2006, respectively. The Commission, pursuant to Rule 214(d)(3)(i) of the Commission's Rules of Practice and Procedure, hereby grants Norton McMurray's and City of Richmond's motions to intervene out of time for the limited purpose of participating in the Procedural Conference. The Commission reserves the right to grant or deny further party status of Norton McMurray and/or City of Richmond, as may be appropriate.

FERC conferences are accessible under section 508 of the Rehabilitation Act of 1973. For accessibility accommodations please send and e-mail to accessibility@ferc.gov or call toll free (866) 208-3372 (voice) or (202) 208-1659 (TTY), or send a FAX to (202) 208-2106.

Any questions about this procedural conference may be directed to: Whit Holden, 202-502-8089, edwin.holden@ferc.gov or Richard Foley, 202-502-8955, richard.foley@ferc.gov.

Magalie R. Salas,
Secretary.

[FR Doc. E6-2379 Filed 2-17-06; 8:45 am]

BILLING CODE 6717-01-P